DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Community Economic Data Collection.

Form Number(s): None.

OMB Approval Number: None.

Type of Request: Regular submission.

Burden Hours: 2,931.

Number of Respondents: 1,115.

Average Hours per Response: Business survey, 45 minutes; household survey, 30 minutes; visitor pre-questionnaire, 5 minutes; and visitor questionnaire, 15 minutes.

Needs and Uses: NOAA, National Marine Fisheries Service (NMFS) proposes to collect information pertaining to the economic utilization of marine resources by coastal communities on the West Coast that will improve fishery management; satisfy legal mandates under Executive Order 12866, Title 16 of the Magnuson Steven Fishery Conservation and Management Act (U.S.C. 1801 et seq.); and quantify achievement of the performances measures in the NMFS Strategic Operating Plans. To this end, economic data from eight representative small-to medium-sized communities will be surveyed to determine the communities' economic structure and utilization of marine resources. Households, businesses, and visitors to the communities will be surveyed as to their regional economic impact in the community.

Affected Public: Individuals or households, business or other for profit organizations.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov.)

Written comments and recommendations for the proposed information collection should be sent within 30 days of publication of this notice to David Rostker, OMB Desk Officer, FAX number (202) 395-7285, or David_Rostker@omb.eop.gov.

Dated: August 2, 2007.
Gwellnar Banks,
Management Analyst, Office of the Chief Information Officer.

[FR Doc. E7-15395 Filed 8-7-07; 8:45 am]

BILLING CODE 3510-22-P